DEPARTMENT OF DEFENSE

GENERAL SERVICES ADMINISTRATION

NATIONAL AERONAUTICS AND SPACE ADMINISTRATION

[OMB Control No. 9000-0199; Docket No. 2019-0003; Sequence No. 28]

Submission for OMB Review; Prohibition on Contracting for Certain Telecommunications and Video Surveillance Services or Equipment

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding prohibition on contracting for certain telecommunications and video surveillance services or equipment.

DATES: Submit comments on or before October 26, 2020.

ADDRESSES: Written comments and recommendations for this information collection should be sent within 30 days of publication of this notice to www.reginfo.gov/public/do/PRAMain. Find this particular information collection by selecting “Currently under Review—Open for Public Comments” or by using the search function.

Additionally submit a copy to GSA by any of the following methods:

• Federal eRulemaking Portal: This website provides the ability to type short comments directly into the comment field or attach a file for lengthier comments. Go to http://www.regulations.gov and follow the instructions on the site. All items submitted must cite Information Collection 9000-9000-0199, Prohibition on Contracting for Certain Telecommunications and Video Surveillance Services or Equipment.

• Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Camara Francis, Procurement Analyst, at telephone 202-550-0935, or camara.francis@gsa.gov.

SUPPLEMENTARY INFORMATION:

A. OMB Control Number, Title, and any Associated Form(s)

9000-0199, Prohibition on Contracting for Certain Telecommunications and Video Surveillance Services or Equipment.

B. Needs and Uses

The Paperwork Reduction Act (PRA) of 1995 (44 U.S.C. 3501 et seq.) provides that an agency generally cannot conduct or sponsor a collection of information, and no person is required to respond to, nor be subject to, a penalty for failure to comply with a collection of information, unless that collection has obtained Office of Management and Budget (OMB) approval and displays a currently valid OMB Control Number.

DoD, GSA, and NASA requested and OMB authorized emergency processing of an information collection involved in this rule, as OMB Control Number 9000-0199 (FAR case 2018-017), from the provision at FAR 52.204-24, Representation Regarding Certain Telecommunications and Video Surveillance Services and the clause at FAR 52.204-25, Prohibition on Contracting for Certain Telecommunications and Video Surveillance Services or Equipment, consistent with 5 CFR 1320.13. DoD, GSA, and NASA have determined the following conditions have been met:

a. The collection of information is needed prior to the expiration of time periods normally associated with a routine submission for review under the provisions of the Paperwork Reduction Act, in view of the deadline for this provision of the NDAA which was signed into law in August 2018 and requires action before the prohibition goes into effect on August 13, 2019.

b. The collection of information is essential to the mission of the agencies to ensure the Federal Government does not purchase prohibited equipment, systems and services, and can respond appropriately if any such purchases are not identified until after delivery or use.

c. The use of normal clearance procedures would prevent the collection of information from contractors, for national security purposes.

This requirement supports implementation of Section 889 of Title VII of the National Defense Authorization Act for Fiscal Year 2019 (Pub. L. 115-232). This section prohibits agencies from procuring, obtaining, extending or renewing a contract to procure or obtain any equipment, system, or service that uses covered telecommunication equipment or services as a substantial or essential component of any system, or as a critical technology as part of any system on or after August 13, 2019 unless an exception applies.

This requirement is implemented in the Federal Acquisition Regulation (FAR) through the provision at FAR 52.204-24, Representation Regarding Certain Telecommunications and Video Surveillance Services or Equipment and the clause at FAR 52.204-25, Prohibition on Contracting for Certain Telecommunications and Video Surveillance Services or Equipment.

This clearance covers the following requirements:

• FAR 52.204-24 requires an offeror to represent whether they will provide any covered telecommunications equipment or services and if so, describe in more detail the use of the covered telecommunications equipment or services; and

• FAR 52.204-25 requires contractors to report covered telecommunications equipment, systems and services identified during performance of a contract.

DoD, GSA, and NASA request approval of this information collection in order to implement the law. The information will be used by agency personnel to identify and remove prohibited equipment, systems, or services from Government use. Under the Paperwork Reduction Act (PRA) of 1995, Federal agencies must obtain approval from the Office of Management and Budget (OMB) for each collection of information they conduct or sponsor.

C. Annual Reporting Burden

52.204-25:

Respondents: 190,446.

Total Annual Responses: 7,855,881.

Total Burden Hours: 821,274.

The public reporting burden for this collection of information consists of completing the representation, which is estimated will take an average of 5 minutes (.08333 hours) per response if additional detail is not necessary. If additional detail is necessary, completing the representation is estimated will take an average of three hours per response. The average total burden hours per total responses is estimated to average .105 burden hours per response, including time to complete the representation and provide the additional detail.

Annual Reporting Burden

52.204-25:

Respondents: 4,761.

Total Annual Responses: 23,805.

Total Burden Hours: 35,708.

The public reporting burden for this collection of information consists of reports of identified covered telecommunications equipment, systems and services during contract performance as required by 52.204-25. Reports are estimated to average 1.5 hour per response, including the time for reviewing definitions, searching existing data sources, gathering and maintaining the data needed, and completing and reviewing the report.

D. Public Comment

A 60-day notice was published in the Federal Register at 84 FR 54146, on October 9, 2019. No comments were received.

Obtaining Copies: Requesters may obtain a copy of the information collection documents from the General Services Administration, Regulatory Secretariat Division (MVCB), 1800 F Street NW, Washington, DC 20405, telephone 202-501-4755.

Please cite OMB Control No. 9000-0199, Prohibition on Contracting for Certain Telecommunications and Video Surveillance Services or Equipment, in all correspondence.

William Clark,
Director, Federal Acquisition Policy Division, Office of Governmentwide Acquisition Policy, Office of Acquisition Policy, Office of Governmentwide Policy.

[FR Doc. 2020-21033 Filed 9-23-20; 8:45 am]

BILLING CODE 6820-EP-P